DEPARTMENT OF THE INTERIOR

National Park Service

[NPS-WASO-NRNHL-12009; 2200-3200-665]

National Register of Historic Places; Notification of Pending Nominations and Related Actions

Nominations for the following properties being considered for listing or related actions in the National Register were received by the National Park Service before December 22, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by February 25, 2013. Before including your address, phone number, email address, or other personal identifying information in your comment, you should be aware that your entire comment—including your personal identifying information—may be made publicly available at any time. While you can ask us in your comment to withhold your personal identifying information from public review, we cannot guarantee that we will be able to do so.

Dated: December 20, 2012.
Roger Reed,
Acting Chief, National Register of Historic Places/National Historic Landmarks Program.

FLORIDA

Orange County

Kerouac, Jack, House, 1418 Clouser Ave., Orlando, 12001254

Sarasota County

Warm Mineral Springs Motel, (Sarasota School of Architecture MPS), 12597 S. Tamiami Trail, North Port, 12001255

MISSOURI

Jackson County

Marty, Albert, Building, (Railroad Related Historic Commercial and Industrial Resources in Kansas City, Missouri MPS), 1412-1418 W. 12th St., Kansas City, 12001257

St. Louis Independent City

Lindell Park Subdivision, Bounded by N. Grand Blvd., Natural Bridge, Glasgow & St. Louis Aves., St. Louis (Independent City), 12001256

NEW YORK

Jefferson County

First Presbyterian Society of Cape Vincent, (Cape Vincent Town and Village MRA), 260 E. Broadway, Cape Vincent, 12001258

Montgomery County

First Methodist Episcopal Church of St. Johnsville, 5 W. Main St., St. Johnsville, 12001259

Schoharie County

Terpenning—Johnson House and Cemetery, 674 Brooker Hollow Rd., Brooker Hollow, 12001260

West Fulton Methodist Church, 849 West Fulton Rd., West Fulton, 12001261

NORTH CAROLINA

Polk County

Tryon Country Club, 393 Country Club Rd., Tryon, 12001262

SOUTH CAROLINA

Pickens County

Hester Store, 1735 Hester Store Rd., Easley, 12001263

York County

Rock Hill Printing and Finishing Company, 400 W. White St., Rock Hill, 12001264

VIRGINIA

Augusta County

Hanger Mill (Boundary Increase), Jct. of VA 801 & US 250, Churchville, 12001265

Fairfax County

Bloomfield, 12000 Leesburg Pike, Herndon, 12001266

Falls Church Independent City

Bancroft, Edwin and Mary Ellen Henderson, House, 307 S. Maple Ave., Falls Church (Independent City), 12001267

Franklin Independent City

Hayden High School, 610-678 Oak St., Franklin (Independent City), 12001268

Norfolk Independent City

Seaboard Air Line Railway Building, 221-229 W. Bute St., Norfolk (Independent City), 12001271

Shenandoah County

Stoner—Keller House and Mill, 2900 Battlefield Rd., Strasburg, 12001269

Spotsylvania County

Lansdowne, 4919 Lansdowne Rd., Fredericksburg, 12001270

Stafford County

Stafford Training School, 1739 Jefferson Davis Hwy., Stafford, 12001272

Virginia Beach Independent City

Green Hill, 1721 Lovetts Pond Ln., Virginia Beach (Independent City), 12001273

Winchester Independent City

Morgan, Daniel, House, 226 Amherst St., Winchester (Independent City), 12001274

WISCONSIN

Winnebago County

Kimberly Point Park Lighthouse, 290 Lake Shore Ave., Neenah, 12001275

[FR Doc. 2013-02913 Filed 2-7-13; 8:45 am]

BILLING CODE 4312-51-P